DEPARTMENT OF THE INTERIOR

Bureau of Land Management

[LLMT926000-10-L19100000-BJ0000-LRCM08RS4651]

Notice of Filing of Plats of Survey; Montana

AGENCY: Bureau of Land Management, Interior.

ACTION: Notice of filing of plats of survey.

SUMMARY: The Bureau of Land Management (BLM) will file the plat of survey of the lands described below in the BLM Montana State Office, Billings, Montana, thirty (30) days from the date of publication in the Federal Register.

FOR FURTHER INFORMATION CONTACT: Randy Thomas, Cadastral Surveyor, Branch of Cadastral Survey, Bureau of Land Management, 5001 Southgate Drive, Billings, Montana 59101-4669, telephone (406) 896-5134 or (406) 896-5009.

SUPPLEMENTARY INFORMATION: This survey was executed at the request of the Superintendent, Fort Peck Agency, through the Rocky Mountain Regional Director, Bureau of Indian Affairs, and was necessary to determine boundaries of trust or tribal interest lands.

The lands we surveyed are:

Principal Meridian, Montana

T. 27 N., R. 42 E.

The plat, in 1 sheet(s), representing the corrective dependent resurvey of a portion of the south boundary, the dependent resurvey of a portion of the subdivisional lines, a portion of the subdivision of section 35, and the adjusted original meanders of the former left bank of the Missouri River, downstream, through section 35, the subdivision of section 35, and the survey of the meanders of the present left bank of the Missouri River, downstream, through section 35, Township 27 North, Range 42 East, Principal Meridian, Montana, was accepted April 6, 2010.

We will place a copy of the plat, in 1 sheet(s), and related field notes we described in the open files. They will be available to the public as a matter of information. If the BLM receives a protest against this survey, as shown on this plat, in 1 sheet(s), prior to the date of the official filing, we will stay the filing pending our consideration of the protest. We will not officially file this plat, in 1 sheet(s), until the day after we have accepted or dismissed all protests and they have become final, including decisions or appeals.

Authority: 43 U.S.C. Chap. 3.

Dated: April 8, 2010.
Michael T. Birtles,
Chief Cadastral Surveyor, Division of Resources.

[FR Doc. 2010-8730 Filed 4-15-10; 8:45 am]

BILLING CODE 4310-DN-P